DEPARTMENT OF TRANSPORTATION

Federal Aviation Administration

14 CFR Part 39

[Docket No. 2001-NM-288-AD; Amendment 39-13580; AD 2004-08-11]

RIN 2120-AA64

Airworthiness Directives; BAE Systems (Operations) Limited (Jetstream) Model 4101 Airplanes

AGENCY: Federal Aviation Administration, DOT.

ACTION: Final rule.

SUMMARY: This amendment adopts a new airworthiness directive (AD), applicable to all BAE Systems (Operations) Limited (Jetstream) Model 4101 airplanes, that requires a review of airplane maintenance records and an inspection of the nose landing gear (NLG) to determine the part number of the steering pinion, and follow-on/corrective actions as applicable. This action is necessary to prevent failure of the steering pinion in the NLG, which could result in loss of steering and possible damage to the airplane during takeoff and landing. This action is intended to address the identified unsafe condition.

DATES: Effective May 26, 2004.

The incorporation by reference of certain publications listed in the regulations is approved by the Director of the Federal Register as of May 26, 2004.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all BAE Systems (Operations) Limited (Jetstream) Model 4101 airplanes was published in the Federal Register on February 25, 2004 (69 FR 8576). That action proposed to require a review of airplane maintenance records and an inspection of the nose landing gear (NLG) to determine the part number (P/N) of the steering pinion, and follow-on/corrective actions as applicable.

Comments

Interested persons have been afforded an opportunity to participate in the making of this amendment. No comments were submitted in response to the proposal or the FAA's determination of the cost to the public.

Conclusion

We have determined that air safety and the public interest require the adoption of the rule as proposed.

Cost Impact

The FAA estimates that 57 airplanes of U.S. registry will be affected by this proposed AD, that it will take approximately 14 work hours per airplane to accomplish the identification of the P/N for the steering pinion in Part 1 of BAE Systems (Operations) Limited Service Bulletin J41-32-076, and that the average labor rate is $65 per work hour. The cost for a temporary placard, if required, would be minimal. Based on these figures, the cost impact of the P/N identification is estimated to be $51,870, or $910 per airplane.

Should an operator be required to replace a steering pinion per Part 2 of BAE Systems (Operations) Limited Service Bulletin J41-32-076, it will take approximately 16 work hours per airplane, at an average labor rate of $65 per work hour. The manufacturer of the NLG will provide parts to affected operators at no cost. Based on these figures, the cost impact of the replacement is estimated to be $1,040 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-08-11 Bae Systems (Operations) Limited (Formerly British Aerospace Regional Aircraft): Amendment 39-13580. Docket 2001-NM-288-AD.

Applicability: All Model Jetstream 4101 airplanes, certificated in any category.

Compliance: Required as indicated, unless accomplished previously.

To prevent failure of the steering pinion in the nose landing gear (NLG), which could result in a loss of steering and possible damage to the airplane during takeoff and landing, accomplish the following:

Identification of Steering Pinion Part Number and Follow-on/Corrective Actions

(a) Within 60 days after the effective date of this AD: Do a review of the airplane maintenance records and a general visual inspection of the NLG to identify the part number (P/N) of the steering pinion, and to determine the total cycles since new and since overhaul of the NLG, by accomplishing all of the applicable actions in accordance with Part 1 of the Accomplishment Instructions of BAE Systems (Operations) Limited Service Bulletin J41-32-076, dated July 3, 2001.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(b) If the steering pinion P/N is identified as AIR136088, and the NLG has more than 12,000 total landings since new or overhaul: Before further flight, after accomplishing the actions required by paragraph (a) of this AD, install a temporary placard prohibiting pushback with engines running in accordance with Part 1 of the Accomplishment Instructions of BAE Systems (Operations) Limited Service Bulletin J41-32-076, dated July 3, 2001.

(c) Based on the criteria in the Accomplishment Instructions of BAE Systems (Operations) Limited Service Bulletin J41-32-076, dated July 3, 2001, if it is determined that the NLG must be replaced with a serviceable NLG, accomplish the replacement in accordance with the Accomplishment Instructions of the service bulletin. Do the replacement at the later of the times specified in paragraphs (c)(i) and (c)(ii) of this AD. After replacement of an existing NLG, the temporary placard required by paragraph (b) of this AD may be removed from the airplane.

(i) Prior to the accumulation of 12,000 total landings on the NLG since new or overhaul.

(ii) Within 1,000 landings or 16 months after the effective date of this AD, whichever occurs first.

Repetitive Replacement

(d) After the initial replacement of a NLG as required by paragraph (c) of this AD: Replace the NLG with a serviceable NLG thereafter at intervals not to exceed 12,000 landings on the NLG, until accomplishment of paragraph (f) of this AD.

(e) If P/N AIR131714 is installed on the airplane, or if an operator installs this P/N as a serviceable replacement part, this part must be replaced at or before the accumulation of 19,000 total landings on the part, and thereafter at intervals not to exceed 19,000 total landings on the part, until accomplishment of paragraph (f) of this AD.

(f) Replacement of a NLG with a new NLG having P/N AIR83586-18, or any P/N AIR83586-xx (where xx represents the “dash” number of the part) with “mod 19 strike-off” recorded on the nameplate, in accordance with the Accomplishment Instructions of BAE Systems (Operations) Limited Service Bulletin J41-32-077, dated August 31, 2001, restores the life limits of the steering pinion to 60,000 landings on the NLG. Replace the NLG thereafter at intervals not to exceed 60,000 landings on the NLG.

Submission of Information to Manufacturer Not Required

(g) Although the service bulletins referenced in this AD specify to notify the manufacturer when the actions in the service bulletins have been accomplished, this AD does not include such a requirement.

Alternative Methods of Compliance

(h) In accordance with 14 CFR 39.19, the Manager, International Branch, ANM-116, Transport Airplane Directorate, FAA, is authorized to approve alternative methods of compliance for this AD.

Incorporation by Reference

(i) Unless otherwise specified in this AD, the actions shall be done in accordance with BAE Systems (Operations) Limited Service Bulletin J41-32-076, dated July 3, 2001; and BAE Systems (Operations) Limited Service Bulletin J41-32-077, dated August 31, 2001; as applicable. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 2: The subject of this AD is addressed in British airworthiness directive 001-07-2001.

Effective Date

(j) This amendment becomes effective on May 26, 2004.

Issued in Renton, Washington, on April 9, 2004.
Ali Bahrami,
Acting Manager, Transport Airplane Directorate, Aircraft Certification Service.

[FR Doc. 04-8761 Filed 4-20-04; 8:45 am]

BILLING CODE 4910-13-P